DEPARTMENT OF TRANSPORTATION

Federal Aviation Administration

14 CFR Part 71

[Docket No. FAA-2023-1254; Airspace Docket No. 23-ASO-23]

RIN 2120-AA66

Amendment of Class E Airspace; West Palm Beach, FL

AGENCY: Federal Aviation Administration (FAA), DOT.

ACTION: Final rule; correction.

SUMMARY: A final rule was published in the Federal Register on June 8, 2023, amending the West Palm Beach, FL Class E airspace legal description by removing “West Palm Beach” from the Palm Beach International Airport name in the legal description sub-header as it is excessive and unnecessary. The FAA discovered the word “[Amended]” was not listed after the airspace name in the Class E airspace extending upward from 700 feet above the surface legal description for West Palm Beach, FL. This action corrects this error.

DATES: Effective 0901 UTC, August 10, 2023. The Director of the Federal Register approves this incorporation by reference action under 1 CFR part 51, subject to the annual revision of FAA Order JO 7400.11 and publication of conforming amendments.

FOR FURTHER INFORMATION CONTACT: Jennifer Ledford, Operations Support Group, Eastern Service Center, Federal Aviation Administration, 1701 Columbia Ave., College Park, GA 30337; Telephone (404) 305-5649.

SUPPLEMENTARY INFORMATION:

History

The FAA published a final rule in the Federal Register (88 FR 37469, June 8, 2023) for Doc. No. FAA-2023-1254, Class E airspace extending upward from 700 feet above the surface in West Palm Beach, FL. The legal description inadvertently left off the word “[Amended]” following the airspace name. This action corrects this error.

Class E airspace designations are published in Paragraph 6005 of FAA Order JO 7400.11G dated August 19, 2022, and effective September 15, 2022, which is incorporated by reference in 14 CFR 71.1. The Class E airspace designation listed in this document will be published subsequently in FAA Order JO 7400.11G.

Correction to Final Rule

This action amends (14 CFR) part 71 by adding the word “[Amended]” following the Class E airspace extending upward from 700 feet above the surface legal description in West Palm Beach, FL.

Correction to the Final Rule

Accordingly, pursuant to the authority delegated to me, the amendment of Class E airspace extending upward from 700 feet above the surface in West Palm Beach, FL, in Docket No. FAA-2023-1254, FR Doc. 2023-12054, published in the Federal Register on June 8, 2023 (88 FR 37469), on page 37470, starting in column 1, is corrected as follows:

§ 71.1 [Corrected]

Paragraph 6005 Class E Airspace Areas Extending Upward From 700 Feet or More Above the Surface of the Earth.

* * * * *

ASO FL E5 West Palm Beach, FL [Amended]

Palm Beach International Airport, FL

(Lat 26°40′59″ N, long 80°5′44″ W)

Palm Beach County Park Airport

(Lat 26°35′35″ N, long 80°5′6″ W)

That airspace extending upward from 700 feet above the surface within a 10-mile radius of Palm Beach International Airport and a 6.7-mile radius of Palm Beach County Park Airport.

* * * * *

Issued in College Park, Georgia, on June 20, 2023.
Andreese C. Davis,
Manager, Airspace & Procedures Team South, Eastern Service Center, Air Traffic Organization.

[FR Doc. 2023-13427 Filed 6-23-23; 8:45 am]

BILLING CODE 4910-13-P